INTERNATIONAL TRADE COMMISSION

[Investigation No. 337-TA-1243]

Certain Active Matrix OLED Display Devices and Components Thereof; Notice of Commission Decision Not To Review an Initial Determination Terminating the Investigation in Its Entirety Based on Settlement; Termination of the Investigation

AGENCY: U.S. International Trade Commission.

ACTION: Notice.

SUMMARY: Notice is hereby given that the U.S. International Trade Commission has determined not to review an initial determination (“ID”) (Order No. 32) of the presiding administrative law judge (“ALJ”) terminating the investigation in its entirety based on settlement. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On February 2, 2021, the Commission instituted this investigation under section 337 of the Tariff Act of 1930, as amended, 19 U.S.C. 1337 (“section 337”), based on a complaint filed by Solas OLED Ltd. of Dublin, Ireland (“Solas” or “Complainant”). See 86 FR 7878-79 (Feb. 2, 2021). The complaint, as amended and supplemented, alleges a violation of section 337 based upon the importation into the United States, the sale for importation, and the sale within the United States after importation of certain active matrix OLED display devices and components thereof by reason of infringement of claims 13-17 of U.S. Patent No. 7,573,068 (“the '068 patent”) and claims 2-40 of U.S. Patent No. 7,868,880 (“the '880 patent”). See id. The notice of investigation names the following respondents: BOE Technology Group Co., Ltd. and Beijing BOE Display Technology Co., Ltd. of Beijing, China, and BOE Technology America, Inc. of Santa Clara, California (collectively “BOE”); and Samsung Electronics Co., Ltd. of Suwon-si, South Korea; Samsung Electronics America, Inc. of Ridgefield Park, New Jersey; and Samsung Display Co., Ltd. of Yongin-si, South Korea (collectively “Samsung”). See id. The Office of Unfair Import Investigations (“OUII”) is also a party to the investigation. See id.

On October 28, 2021, the Commission partially terminated the investigation as to the BOE respondents. See Order No. 23 (Oct. 4, 2021), unreviewed by Comm'n Notice (Oct. 28, 2021).

On October 29, 2021, the Commission terminated the investigation as to claims 14-16 of the '068 patent and claims 12, 13, 15-19, 22-24, 34, 35, and 38-40 of the '880 patent based on the withdrawal of the allegations in the complaint as to those claims. See Order No. 24 (Oct. 5, 2021), unreviewed by Comm'n Notice (Oct. 29, 2021).

On December 14, 2021, the Commission terminated the investigation as to claims 3-5, 7-9, 11, 20, 21, 25-29, 31-33, 36, and 37 of the '880 patent based on the withdrawal of the allegations in the complaint as to those claims. See Order No. 28 (Nov. 16, 2021), unreviewed by Comm'n Notice (Dec. 14, 2021).

On March 1, 2022, Complainant and the remaining respondents, Samsung, filed a joint motion to terminate the investigation in its entirety based on settlement. On March 3, 2022, OUII filed a response in support of the joint motion.

On March 4, 2022, the ALJ issued the subject ID (Order No. 32) granting the joint motion. The ID finds that “[t]he pending motion for termination complies with the Commission Rules.” See ID at 2. Specifically, the motion includes confidential and public copies of the settlement agreement (“the Agreement”) in accordance with Commission Rule 210.21(b)(1), 19 CFR 210.21(b)(1). See id. In addition, as noted in the ID, the motion states that “[o]ther than the Agreement, there are no other agreements, written or oral, express or implied, between Solas and Samsung concerning the subject matter of this Investigation.” See id. at 3. Furthermore, in accordance with Commission Rule 210.50(b)(2), 19 CFR 210.50(b)(2), the ID finds “no evidence indicating that terminating this investigation based on the Agreement would be contrary to the public interest.” See id.

No petition for review of the subject ID was filed. The Commission has determined not to review the subject ID. The investigation is terminated.

The Commission's vote for this determination took place on March 18, 2022.

The authority for the Commission's determination is contained in section 337 of the Tariff Act of 1930, as amended (19 U.S.C. 1337), and in part 210 of the Commission's Rules of Practice and Procedure (19 CFR part 210).

By order of the Commission.
Issued: March 18, 2022.
Lisa Barton,
Secretary to the Commission.

[FR Doc. 2022-06208 Filed 3-23-22; 8:45 am]

BILLING CODE 7020-02-P